DEPARTMENT OF DEFENSE

Department of the Army; Corps of Engineers

Cancellation of Notice of Intent To Prepare an Environmental Impact Statement for Northwest Aggregates' Previously Authorized Replacement of an Existing Barge Loading Facility in East Passage of Puget Sound on the Southeast Shoreline of Maury Island, King County, WA

AGENCY: Department of the Army, U.S. Army Corps of Engineers, DoD.

ACTION: Cancelation of Notice of Intent.

SUMMARY: The U.S. Army Corps of Engineers (Corps) Seattle District will issue a revised Notice of Intent at a later date. The notice that was previously published in the Federal Register (75 FR 25217) on May 7, 2010 is cancelled.

SUPPLEMENTARY INFORMATION: None.

Brenda S. Bowen,
Army Federal Register Liaison Officer.

[FR Doc. 2010-11816 Filed 5-17-10; 8:45 am]

BILLING CODE 3720-58-P